DEPARTMENT OF HOMELAND SECURITY

U.S. Customs and Border Protection

Post-Summary Corrections to Entry Summaries Filed in ACE Pursuant to the ESAR IV Test

AGENCY: U.S. Customs and Border Protection, Department of Homeland Security.

ACTION: General notice.

SUMMARY: This document announces U.S. Custom and Border Protection's (CBP's) plan to conduct a National Customs Automation Program test concerning new Automated Commercial Environment (ACE) Entry Summary, Accounts and Revenue (ESAR IV) capabilities. Specifically, importers will be allowed to use the Automated Broker Interface (ABI) to file post-summary corrections (PSCs) of certain pre-liquidation ACE entry summaries. As the PSC procedure replaces the existing Post-Entry Amendment (PEA) hard copy process for entry summaries filed under ACE, PEA procedures will no longer be accepted for entry summaries filed in ACE effective September 22, 2011. This notice also describes ESAR IV Portal enhancements and announces test particulars including commencement date, eligibility, procedural and documentation requirements, and test development and evaluation methods.

DATES: The ESAR IV test will commence July 25, 2011, and will continue until concluded by way of announcement in the Federal Register. Effective September 22, 2011, PEA procedures will no longer be accepted for entry summaries filed in ACE. Comments concerning this notice and any aspect of the test may be submitted at any time during the test period to the address set forth below.

ADDRESSES: Comments concerning this notice should be submitted via e-mail to Monica Crockett at ESARinfoinbox@dhs.gov. Please indicate “ESAR IV (Post Summary Corrections Processing)” in the subject line of your e-mail.

FOR FURTHER INFORMATION CONTACT: For policy-related questions, contact Cynthia Whittenburg at cynthia.whittenburg@dhs.gov. For technical questions related to ABI transmissions, contact your assigned client representative. Interested parties without an assigned client representative should direct their questions to the Client Representative Branch at (703) 650-3500.

SUPPLEMENTARY INFORMATION:

Background

I. Automated Commercial Environment (ACE) Test Programs

Automated Commercial Environment (ACE) prototypes are tested in accordance with § 101.9(b) of title 19 of the Code of Federal Regulations (19 CFR 101.9(b)), which provides for the testing of National Customs Automation Program (NCAP) components. A chronological listing of Federal Register publications detailing ACE test developments is set forth below in section VII of this document. The procedures and criteria related to participation in the prior ACE tests remain in effect unless otherwise explicitly changed by this or subsequent notices published in the Federal Register.

II. ACE Entry Summary, Accounts and Revenue (ESAR IV) Capabilities Relating to the Automated Broker Interface (ABI) Processing of Post-Summary Corrections (PSCs) for ACE Entry Summaries

A. In General

This notice announces CBP's plan to conduct a test concerning new ACE Entry Summary, Accounts and Revenue (ESAR IV) functionalities that permit importers to file post-summary corrections (PSCs) of certain ACE entry summaries using the Automated Broker Interface (ABI). Under ESAR IV, importers will be allowed to use ABI to file PSCs to those pre-liquidation ACE entry summaries that have been accepted by CBP and are fully paid and under CBP control.

A PSC/ABI transaction contains all of the data elements in the original entry summary and constitutes a complete replacement of that entry summary, as well as a replacement of any prior PSCs that may have been made to the original entry summary.

CBP requests that participants not use submissions made under this test as a means of submitting a prior disclosure under 19 U.S.C. 1592. If a participant wishes to file a prior disclosure for an entry summary corrected under this test, the rules and procedures set forth in 19 CFR 162.74 should be followed. For more information on prior disclosures see CBP's Informed Compliance Publication entitled “The ABC's of Prior Disclosure,” available on http://www.cbp.gov/xp/cgov/trade/legal/informed_compliance_pubs/.

B. Portal Capability

ACE Portal Account owners who have the ability to select “portal” as their mode of communication will now be able to respond to CBP Forms 28, 29 and 4647 via the ACE Portal for both ACS and ACE entry summaries. ACE Portal Reports will be enhanced to include improvements to the current list of entry summary data elements. The enhanced entry summary list will be easier to use and will provide additional flexibility when the user is creating and modifying entry summary reports. PSC data elements will also be available for further customization of existing entry summary reports. Additional PSC data elements include a PSC indicator, PSC filer, PSC reason codes at both the header and the line level, and an accelerated liquidation request indicator.

C. Electronic Data Interface (EDI) Capability

Trade participants will be able to submit a PSC for existing ACE formal (type 01) entries and Antidumping/Countervailing (type 03) entries. Informal entries (type 11) are not eligible for PSC. An authorized ACE entry summary filer may submit a PSC for an ACE entry summary originally submitted by another ACE entry summary filer if authorized by the same importer of record.

As noted above, a PSC transaction contains all of the data elements in the original entry summary. It is a complete replacement of the entry summary originally filed with CBP (including any previously filed PSCs) and will be processed through all existing validations including Census warnings. Accordingly, the act of filing a PSC will constitute “customs business” as defined in 19 CFR 111.1.

D. Criteria and Rules for Filing a Post-Summary Correction (PSC)

To file a PSC on an existing ACE entry type 01 or 03, the original entry summary or previously filed PSC must satisfy the following requirements:

• The entry summary or previously filed PSC cannot be liquidated.

• The entry summary must be fully paid or revenue free.

• When a PSC results in a type 01 entry being changed/corrected to indicate it is a type 03 entry, or if a PSC for a change/correction to a type 03 entry results in additional AD/CVD duties due, the importer of record must deposit the associated AD/CVD duties (or bond, if allowed) at the same time the PSC is filed. The failure to make the deposit (or bond, if allowed) may result in a claim for liquidated damages.

• The entry summary or previously filed PSC must be in “accepted” status. “Accepted” status is defined as an entry summary or previously filed PSC that has passed through all technical edits and validations.

• The entry summary or previously filed PSC must be in “CBP control,” accepted and fully paid, and not in “trade control.” The entry summary or previously filed PSC is in “trade control” when it is successfully accepted in the system and not on a statement. The entry summary or previously filed PSC is in “CBP control” when it is placed on a statement.

• The PSC filing must be transmitted within 270 days of the date of entry.

• The entry summary or previously filed PSC cannot be filed within 20 calendar days of the scheduled liquidation date.

• The entry summary or previously filed PSC cannot be under CBP review. The filer will receive a message indicating “PSC not allowed under CBP Review” if a PSC is submitted where the entry summary or previously filed PSC is in CBP review.

• An entry summary or previously filed PSC that has been flagged for reconciliation may only be corrected by a PSC that does not affect the flagged issue.

• A text explanation and at least one reason code (both to be submitted electronically with the PSC entry summary) are required for each PSC submission.

• There are no limitations to the number of PSCs that can be submitted for any one entry so long as the PSC is not within the disallowed timeframe and all other requirements are met.

E. Data Elements That Cannot Be Changed Via Post Summary Correction (PSC)

Certain data elements cannot be changed using PSC procedures and CBP will reject any PSC submission containing prohibited data elements. The following is a list of data elements that cannot be changed via PSC:

• A type 03 entry cannot be changed to a type 01 entry.

• Importer of record.

• Consolidated summary indicator.

• District/port of entry.

• Cargo release certification request indicator (this includes Department of Transportation (DOT) grouping; Food and Drug Administration (FDA) grouping; and Participating Government Agency (PGA) grouping).

• Live entry indicator.

• NAFTA indicator.

• Reconciliation issue code.

• Preliminary statement print date.

• Periodic statement month.

• Statement client branch identifier.

• Location of goods code.

• Any release detail (release entry filer code, release entry number).

Where applicable, a test participant may file a prior disclosure to reflect a change to these data elements pursuant to 19 CFR 162.74.

F. Liquidation Notices

For non-type 03 entries, when a filer changes the entry summary data via PSC, and CBP makes no further changes to that data, the entry will liquidate “no change” as entered. A status of “no change” on the bulletin notice of liquidation will signify that CBP did not change the data submitted on the last accepted PSC. A type 03 entry will not be liquidated until the Department of Commerce issues liquidation instructions to CBP covering that entry.

G. ACE ABI CATAIR

To reflect the new ESAR IV capabilities, CBP has revised the following ACE ABI CATAIR chapters:

• Entry Summary Create/Update

• Entry Summary Query

• Entry Summary Status Notification

• Appendix G—ACE Condition Codes and Narrative Text

Documentation specifying the details of electronic submissions of PSCs may be found in the ACE ABI CATAIR on the CBP Web site located at http://www.cbp.gov/xp/cgov/trade/automated/modernization/ace_edi_messages/catair_main/abi_catair. Operational documentation addressing PSC may be found in the ACE Entry Summary “Business Rules and Process Document” located at http://www.cbp.gov/linkhandler/cgov/trade/trade_programs/entry_summary/ace/ace_es_business.ctt/ace_es_business.pdf. Both the CATAIR and the “Business Rules and Process Document” will continue to be updated to reflect future deployments of ACE functionality.

H. Access by Filers to Entry and Post Summary Correction (PSC) Data

Entry summary data is confidential commercial information. With regard to visibility to the information, the full content of the original entry summary will be provided only to the filer of that entry summary. As stated above, once a PSC is filed it fully replaces the original entry summary. Accordingly, full information with respect to the PSC is only available to the filer of the PSC. The filer of the original entry summary will be notified that the entry summary has been fully replaced by a PSC, but will not have visibility to the new filing. Similarly, if a subsequent PSC is filed, it fully replaces the previously filed PSC (which had fully replaced the original entry summary) and full information is visible only to the filer of the subsequent PSC. The filer of the original entry summary or the filer of the previously filed PSC will be notified that a new replacement entry summary has been filed by a PSC, but will not have visibility to the new filing. For example, if filer A files the original entry summary and then filer B submits a PSC, filer A will receive notification that a PSC has been filed. If filer A then submits a subsequent PSC, filer B will receive notification of the PSC filing but filer A will not have visibility to what filer B submitted. Conversely, filer B will not have visibility to what filer A submitted. Only the filer of the latest PSC will be able to get the latest full entry summary replacement data in response to a query.

As the information in the entry summary, including any PSC, is the property of the importer, full access to the original entry summary and all PSCs may be provided by the importer of record to filers through normal business communication channels. In the alternative, if the importer of record has a portal account, the importer of record may elect to grant user access to his portal account.

In situations where an earlier filer does not have access to information provided by a subsequent PSC filer, CBP notes that each entry filer and PSC filer is individually responsible and accountable for the accuracy, completeness, and content of the information contained in their separate submissions. Each filer has recordkeeping obligations for the records on which their filing is based; therefore entry filers and PSC filers are not responsible or accountable for any submission not made by them and they do not incur recordkeeping obligations related to such submissions.

I. Post-Entry Amendments (PEAs) To Be Phased Out for Entry Summaries Filed in ACE

The Post-Entry Amendment (PEA) test allows importers to amend entry summaries (excluding informal entries) prior to liquidation by filing with CBP either an individual amendment letter upon discovery of an error or a quarterly tracking report covering any errors that occurred during the quarter. General guidelines and other applicable criteria for filing post-entry amendments were published in the following series of Federal Register notices: 65 FR 70872 (November 8, 2000); 67 FR 768 (January 7, 2002); 68 FR 8329 (February 20, 2003); 69 FR 5860 (February 6, 2004); and 72 FR 46654 (August 21, 2007).

This notice announces that, for purposes of ESAR IV, a PSC transaction will replace the existing Post-Entry Amendment (PEA) hardcopy process for entry summaries filed under ACE. For this reason, effective September 22, 2011, PEA procedures will no longer be accepted for entry summaries filed in ACE. Prior to this date, test participants may file either a PSC or a PEA to correct an entry summary filed in ACE. It is noted, however, that a filer should not use both methods to correct the same data element in the same entry summary. A related notice announcing this change to the PEA test is published in this edition of the Federal Register.

III. Confidentiality

All data submitted and entered into the ACE Portal is subject to the Trade Secrets Act (18 U.S.C. 1905) and is considered confidential, except to the extent as otherwise provided by law (see 19 U.S.C. 1431(c)). As stated in previous notices, participation in this or any of the previous ACE tests is not confidential and upon a written Freedom of Information Act request, a name(s) of an approved participant(s) will be disclosed by CBP in accordance with 5 U.S.C. 552. If necessary, CBP will reserve the right to limit the number of participants and locations during the initial stages of the test.

IV. Waiver of Affected Regulations

Any provision in 19 CFR including, but not limited to, provisions found in parts 141, 142, 143 and 151 thereof relating to entry/entry summary processing that are inconsistent with the requirements set forth in this notice are waived for the duration of the test. See 19 CFR 101.9(a). Additionally, any previous practice pertaining to party definitions, including but not limited to “ultimate consignee,” that are inconsistent with the requirements set forth in this notice are waived for the duration of the test. The CATAIR should be consulted for appropriate terms and definitions for purposes of this test.

V. Misconduct Under the Test

An ACE test participant may be subject to civil and criminal penalties, administrative sanctions, liquidated damages, and/or suspension from this test for any of the following:

• Failure to follow the terms and conditions of this test.

• Failure to exercise reasonable care in the execution of participant obligations.

• Failure to abide by applicable laws and regulations.

• Failure to timely deposit duties or fees, including any applicable AD/CVD cash deposits (or bond, if allowed).

• Misuse of the ACE Portal.

• Engagement in any unauthorized disclosure or access to the ACE Portal.

• Engagement in any activity that with the successful evaluation of the new technology.

Suspensions for misconduct will be administered by the Executive Director, Commercial Targeting and Enforcement, Office of International Trade, CBP Headquarters. A written notice proposing suspension will be issued to the participant that apprises the participant of the facts or conduct warranting suspension and informs the participant of the date the suspension will begin. Any decision proposing suspension of a participant may be appealed in writing to the Assistant Commissioner, Office of International Trade within 15 calendar days of the notification date. An appeal of a decision of proposed suspension must address the facts or conduct charges contained in the notice and state how compliance will be achieved. In cases of non-payment, late payment, willful misconduct or where public health interests or safety is concerned, a suspension may be effective immediately.

VI. Test Evaluation Criteria

To ensure adequate feedback, participants are required to participate in an evaluation of this test. CBP also invites all interested parties to comment on the design, implementation and conduct of the test at any time during the test period. CBP will publish the final results in the Federal Register and the Customs Bulletin as required by 19 CFR 101.9(b). The following evaluation methods and criteria have been suggested:

1. Baseline measurements to be established through data analysis.

2. Questionnaires from both trade participants and CBP addressing such issues as:

• Workload impact (workload shifts/volume, cycle times, etc.).

• Cost savings (staff, interest, reduction in mailing costs, etc.).

• Policy and procedure accommodation.

• Trade compliance impact.

• Problem resolution.

• System efficiency.

• Operational efficiency.

• Other issues identified by the participant group.

VII. Development of ACE Prototypes

A chronological listing of Federal Register publications detailing ACE test developments is set forth below.

• ACE Portal Accounts and Subsequent Revision Notices: 67 FR 21800 (May 1, 2002); 70 FR 5199 (February 1, 2005); 69 FR 5360 and 69 FR 5362 (February 4, 2004); 69 FR 54302 (September 8, 2004).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry, Summary, Accounts and Revenue (ESAR II) Capabilities: 73 FR 50337 (August 26, 2008); 74 FR 9826 (March 6, 2009).

• ACE Entry, Summary, Accounts and Revenue (ESAR III) Capabilities: 74 FR 69129 (December 30, 2009).

Dated: May 23, 2011.
Allen Gina,
Assistant Commissioner, Office of International Trade.

[FR Doc. 2011-15834 Filed 6-23-11; 8:45 am]

BILLING CODE P